DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: July 28, 2006, 9 a.m.-12:30 p.m.

Place: Crown Plaza Hotel, 1001 14th Street, NW., Washington, DC 20005.

Status: Open.

Purpose: The purpose of this meeting is to discuss issues and concerns relative to implementation of the National Provider Identifier (NDI), and to discuss preliminary recommendations of the Consolidated Health Informatics Initiative (CHI) Allergy Workgroup.

For Further Information Contact: Substantive program information as well as summaries of meetings and a roster of Committee members may be obtained from Denise Buenning, Senior Adviser, Office of E-Health Standards and Services, Centers for Medicare and Medicaid Services, MS: C5-24-04, 7500 Security Boulevard, Baltimore, MD 21244-1850, telephone: 410-786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: July 10, 2006.
James Scanlon,
Deputy Assistant Secretary for Science and Data Policy, Office of the Assistant Secretary for Planning and Evaluation.

[FR Doc. 06-6341 Filed 7-18-06; 8:45 am]

BILLING CODE 4151-05-M